DEPARTMENT OF TRANSPORTATION

Federal Aviation Administration

Notice of Availability of Purpose, Need, and Alternatives Working Paper for the Proposed Airfield Safety Enhancement Project and Real Property Transactions, Tucson International Airport, Tucson, Pima County, Arizona

AGENCY: Federal Aviation Administration, DOT.

ACTION: Notice of Availability of Purpose, Need, and Alternatives Working Paper.

SUMMARY: The Federal Aviation Administration (FAA) has prepared the Purpose, Need, and Alternatives Working Paper for the Proposed Airfield Safety Enhancement Project (ASEP) including real property transactions at Tucson International Airport (TUS), Pima County, Arizona.

The FAA initiated preparation of an Environmental Impact Statement (EIS) in response to a proposal by the Tucson Airport Authority (TAA). The FAA is issuing this notice to advise the public that the Purpose, Need, and Alternatives Working Paper will be made available for public comment as part of a continued effort to engage the public in the scoping process for this project. FAA is seeking comments on the Working Paper.

The FAA is the lead Federal agency for preparation of the EIS and will do so in compliance with the National Environmental Policy Act (NEPA) of 1969, as amended (42 U.S.C. 4321 et seq.) and Council on Environmental Quality (CEQ) Regulations for Implementing the Procedural Provisions of NEPA (40 CFR parts 1500-15080).

The preparation of the EIS will follow FAA regulations and policies for implementing NEPA published in FAA Order 1050.1F, Environmental Impacts: Policies and Procedures, and FAA Order 5050.4B, National Environmental Policy Act (NEPA) Implementing Instructions for Airport Actions. The U.S. Air Force (USAF) and the National Guard Bureau (NGB) are cooperating agencies under 40 CFR 1501.6.

This Purpose, Need, and Alternatives Working Paper provides background information on TUS, a description of the Proposed Action, and the Purpose and Need to which the FAA, USAF, and NGB are responding in evaluating the Proposed Action and various reasonable alternatives to the Proposed Action. In whole or in summary, the Purpose, Need, and Alternatives Working Paper will become part of the EIS. The FAA is not making a decision regarding the Proposed Action in this Working Paper.

FOR FURTHER INFORMATION CONTACT: David B. Kessler, M.A., AICP, Regional Environmental Protection Specialist, AWP-610.1, Airports Division, Federal Aviation Administration, Western-Pacific Region. Mailing address: 15000, Aviation Boulevard, Lawndale, California 90261. Telephone: 310-725-3615.

SUPPLEMENTARY INFORMATION: The FAA as Lead Agency, along with the USAF and the NGB, as Cooperating Agencies, are preparing a Draft EIS for the proposed ASEP including real property transactions at TUS. The TAA is the owner and operator of TUS and has depicted the Proposed Action on the Airport Layout Plan (ALP) for TUS. Pursuant to 49 U.S.C. 47107(a)(16), the FAA must decide whether to approve the proposed project as depicted on the ALP. FAA approval of the ALP is a Federal action that must comply with NEPA requirements.

The proposed project includes construction of a new center parallel and connecting taxiway system; a replacement Runway 11R/29L (proposed to be 11,000 feet long by 150 feet wide); acquisition of land for the runway object-free area, taxiway object-free area, runway safety area, and the runway protection zone from Air Force Plant 44 (AFP 44). The Proposed Action includes relocation of navigational aids and development and/or modification of associated arrival and departure procedures for the relocated runway. The Proposed Action also includes demolition of 12 Earth Covered Magazines (ECMs) on AFP 44 and their replacement elsewhere on AFP 44. The Proposed Action also includes both connected and similar land transfer actions from TAA ultimately to the USAF for land at AFP-44, and another parcel of airport land, on behalf of the NGB, for construction of a Munitions Storage Area to include EMCs and an access road, for the 162nd Wing at the Arizona Air National Guard Base.

Copies of the Working Paper are available for public review at the following locations during normal business hours:

U.S. Department of Transportation, Federal Aviation Administration, Western-Pacific Region, Office of the Airports Division, Room 3012. Physical address: 15000 Aviation Boulevard, Hawthorne, California 90261

U.S. Department of Transportation, Federal Aviation Administration, Phoenix Airports District Office, 3800 North Central Avenue, Suite 1025, 10th Floor, Phoenix, Arizona 85012.

The document is also available for public review at the following libraries and other locations and at http://www.airportprojects.net/tus-eis.

Tucson International Airport Administrative Offices, 7005 South Plumer Avenue, Tucson, Arizona 85756

Joel D. Valdez Main Library, 101 North Stone Avenue, Tucson, Arizona 85701

Murphy-Wilmot Library, 530 North Wilmot Road, Tucson, Arizona 85711

Dusenberry-River Library, 5605 East River Road, Suite 105, Tucson, Arizona 85750

Mission Public Library, 3770 South Mission Road, Tucson, Arizona 85713

El Pueblo Library, 101 West Irvington Road, Tucson, Arizona 85706

Valencia Library, 202 West Valencia Road, Tucson, Arizona 85706

El Rio Library, 1390 W Speedway Blvd., Tucson, AZ 85745

Santa Rosa Library, 1075 S 10th Ave, Tucson, AZ 85701

Quincie Douglas library, 1585 East 36th Street, Tucson, Arizona 85713

Eckstrom-Columbus Library, 4350 East 22nd Street, Tucson, AZ 85711

Sam Lena-South Tucson Library, 1607 South 6th Avenue, Tucson, AZ 85713

Himmel Park Library, Himmel Park, 1035 North Treat Avenue, Tucson, AZ 85716

Martha Cooper Library, 1377 North Catalina Avenue, Tucson, Arizona 85712

Woods Memorial Library, 3455 North 1st Avenue, Tucson, Arizona 85719

University of Arizona Main Library, 1510 East University Boulevard, Tucson, Arizona 85721

The Purpose, Need, and Alternatives Working Paper will be available for public comment for 30 days. Written comments on the Working Paper should be submitted to the address above under the heading “For Further Information Contact” and must be received no later than 5:00 p.m. Pacific Daylight Time, May 15, 2017.

By including your name, address and telephone number, email or other personal identifying information in your comment, be advised that your entire comment, including your personal identifying information, may be made publicly available at any time. While you can ask us in your comment to withhold from public review your personal identifying information, we cannot guarantee that we will be able to do so.

Issued in Hawthorne, California on March 31, 2017.
Mark A. McClardy,
Director, Office of Airports, Western—Pacific Region, AWP-600.

[FR Doc. 2017-07377 Filed 4-11-17; 8:45 am]

BILLING CODE 4910-13-P